DEPARTMENT OF ENERGY

Submission for Office of Management and Budget Review; Comment Requested

AGENCY: Department of Energy.

ACTION: Agency Information Collection Extension.

SUMMARY: The Department of Energy (Department or DOE) has submitted an information collection package to the Office of Management and Budget (OMB) for extension under the Paperwork Reduction Act of 1995 (Pub. L. 104-13, 44 U.S.C. Chapter 35). The package covers the collection of information from state and alternative fuel provider fleets that are subject to the DOE's Alternative Fuel Transportation Program (10 CFR Part 490). The regulations contained in DOE's Alternative Fuel Transportation Program have been promulgated in accordance with sections 501 and 507(o) of the Energy Policy Act of 1992, Pubic Law 102-486, 106 STAT. 2776; 42 U.S.C. 13251, 13257(o). This information is used by the Department to determine the compliance statuses of covered fleets regulated under the Alternative Fuel Transportation Program. The information is critical to ensure the Government has sufficient information to ensure compliance of fleets with reporting and alternative fuel vehicle acquisition requirements.

DATES: Comments must be filed on or before February 6, 2003. If you anticipate that you will be submitting comments, but find it difficult to do so within the period of time allowed by this notice, you should advise the OMB Desk Officer of your intention to do so as soon as possible. The Desk Officer may be telephoned at (202) 395-3087. (Also, please notify the DOE contact listed in this notice.)

ADDRESSES: Address comments to DOE Desk Officer, Office of Management and Budget, Office of Information and Regulatory Affairs (OIRA), Room 10102, New Executive Office Building, 725 17th Street, NW, Washington, DC 20503. (Comments should also be addressed to the Records Management Division, Office of the Chief Information Officer, at the address listed below.)

FOR FURTHER INFORMATION CONTACT: Requests for additional information should be directed to Susan L. Frey, Director, Records Management Division, Office of Records and Business Management, IM-11/GTN Bldg. , U.S. Department of Energy, 1000 Independence Ave SW., Washington, DC 20585-1290.

SUPPLEMENTARY INFORMATION: The package contains the following information:

(1) Current OMB control number: 1910-5101.

(2) Package Title: Annual Alternative Fuel Vehicle Acquisition Report for State Government and Alternative Fuel Provider Fleets. (Formerly entitled, “Recordkeeping and Reporting Requirements of the Alternative Fuel Transportation Program DOE/OTT/101.)

(3) Summary: A three-year extension is requested because the information is critical to ensure that the Government has sufficient information to ensure that covered fleets are complying with annual reporting and acquisition requirements under the Alternative Fuel Transportation Program.

(4) Purpose: To collect fleet compliance reports to determine compliance status under the Program.

(5) Type of Respondents: Covered state government and alternative fuel provider fleets as defined in 10 CFR part 490.

(6) Estimated number of responses: 310 annually.

(7) Estimated total burden hours, including recordkeeping hours, required to provide the information is 5 hours.

Statutory Authority: 42 U.S.C. 13251, 13257(o).

Dated: Issued in Washington, DC on December 30, 2002.
Susan L. Frey,
Director, Records Management Division, Office of Records and Business Management, Office of the Chief Information Officer.

[FR Doc. 03-260 Filed 1-6-03; 8:45 am]

BILLING CODE 6450-01-Pu